DEPARTMENT OF TRANSPORTATION

Federal Aviation Administration

Notice of Intent To Rule on a Request To Release Surplus Property at the Henry E. Rohlsen Airport, Christiansted, US Virgin Islands

AGENCY: Federal Aviation Administration (FAA), DOT.

ACTION: Notice and request for comment.

SUMMARY: Notice is being given that the Federal Aviation Administration (FAA) is considering a request from the Virgin Islands Port Authority to waive the requirement that 84.61 acres of surplus property located at the Henry E. Rohlsen Airport be used for aeronautical purposes. Currently, the ownership of the property provides for the protection of FAR Part 77 surfaces and compatible land use which would continue to be protected with deed restrictions required in the transfer of land ownership.

DATES: Comments must be received on or before August 19, 2019.

ADDRESSES: Comments on this application may be mailed or delivered to the FAA at the following address: Rob Rau, Federal Aviation Administration, Atlanta Airports District Office, 1701 Columbia Ave., Ste. 220, College Park, GA 30337.

In addition, one copy of any comments submitted to the FAA must be mailed to: Damian Cartwright, P.E., Acting Executive Director, Virgin Islands Port Authority, P.O. Box 301707, St. Thomas, USVI 00803-1707.

FOR FURTHER INFORMATION CONTACT: Rob Rau, Federal Aviation Administration, Atlanta Airports District Office, 1701 Columbia Ave., Ste. 220, College Park, GA 30337, robert.rau@faa.gov. The request to release property may be reviewed, by appointment, in person at this same location.

SUPPLEMENTARY INFORMATION: The FAA is reviewing a request to release 84.61 acres of surplus property at the Henry E. Rohlsen Airport (STX) under the provisions of 49 U.S.C. 47151(d). On March 29, 2019, the Virgin Islands Port Authority requested the FAA release 84.61 acres of surplus property for commercial development. The FAA has determined that the proposed property release at the Henry E. Rohlsen Airport (STX), as submitted by the Virgin Islands Port Authority, meets the procedural requirements of the FAA and release of the property does not and will not impact future aviation needs at the airport. The FAA may approve the request, in whole or in part, no sooner than thirty days after the publication of this notice. In accordance with 49 U.S.C. 47107(c)(2)(B)(i) and (iii), the airport will receive fair market value for the property, which will be subsequently reinvested in another eligible airport improvement project for aviation facilities at the Henry E. Rohlsen Airport.

Any person may inspect, by appointment, the request in person at the FAA office listed above under FOR FURTHER INFORMATION CONTACT. In addition, any person may, upon appointment and request, inspect the application, notice and other documents determined by the FAA to be related to the application in person at the Henry E. Rohlsen Airport.

Issued in Atlanta, GA, on July 11, 2019.
Larry F. Clark,
Manager, Atlanta Airports District Office.

[FR Doc. 2019-15224 Filed 7-17-19; 8:45 am]

BILLING CODE 4910-13-P